DEPARTMENT OF LABOR

Employment and Training Administration

[TA-W-73,610]

Visteon Corporation Springfield Plant Formerly Known as VC Regional Assembly & Manufacturing, LLC Including On-Site Leased Workers From MSX International, Adecco, and Manpower, Springfield, OH; Amended Certification Regarding Eligibility To Apply for Worker Adjustment Assistance

In accordance with section 223 of the Trade Act of 1974, as amended (“Act”), 19 U.S.C. 2273, the Department of Labor issued a Certification of Eligibility to Apply for Worker Adjustment Assistance on August 27, 2010, applicable to workers of Visteon Corporation, Springfield Plant, including on-site leased workers from MSX International, Adecco, and Manpower, Springfield, Ohio. The notice was published in the Federal Register September 15, 2010 (75 FR 56142).

At the request of the State agency, the Department reviewed the certification for workers of the subject firm. The workers are engaged in activities related to the production of fuel tanks, fuel delivery modules, and canister vent valves.

New information shows that Visteon Corporation, Springfield Plant was formerly known as VC Regional Assembly & Manufacturing, LLC. Workers separated from employment at the subject firm had their wages reported under a separate unemployment insurance (UI) tax account under the name VC Regional Assembly & Manufacturing, LLC.

Accordingly, the Department is amending this certification to properly reflect this matter.

The intent of the Department's certification is to include all workers of the subject firm who were adversely affected as a secondary component supplier to a TAA certified worker group.

The amended notice applicable to TA-W-73,610 is hereby issued as follows:

All workers of Visteon Corporation, Springfield Plant, formerly known as VC Regional Assembly & Manufacturing, LLC, including on-site leased workers from MSX International, Adecco, and Manpower, who became totally or partially separated from employment on or after March 2, 2009 through August 27, 2012, and all workers in the group threatened with total or partial separation from employment on date of certification through two years from the date of certification, are eligible to apply for adjustment assistance under Chapter 2 of Title II of the Trade Act of 1974, as amended.

Signed at Washington, DC this 10th day of November 2010.
Elliott S. Kushner,
Certifying Officer, Division of Trade Adjustment Assistance.

[FR Doc. 2010-29099 Filed 11-17-10; 8:45 am]

BILLING CODE 4510-FN-P